DEPARTMENT OF DEFENSE

Office of the Secretary

Notice of Availability of the Ground-Based Midcourse Defense Initial Defensive Operations Capability at Vandenberg Air Force Base Environmental Assessment and Draft Finding of No Significant Impact

AGENCY Missile Defense Agency, Department of Defense.

ACTION: Notice of availability.

SUMMARY: This notice announces the availability of the Missile Defense Agency's (MDA) Ground-Based Midcourse Defense (GMD) Initial Defensive Operations Capability (IDOC) at Vandenberg Air Force Base (AFB) Environmental Assessment (EA) and Draft Finding of No Significant Impact (FONSI). The EA analyzes the potential environmental consequences of establishing the capability to launch defensive ground-based interceptors (GBIs) from Vandenberg AFB, California. The Proposed Action would use and/or modify four existing missile silos and other support facilities as part of the GMD IDOC. The GMD IDOC activities would be operational and not test in nature. Operational launches would only occur in an emergency as an initial defense against a limited long-range ballistic missile threat. Based on this analysis, the MDA has determined that the proposed activities are not expected to result in significant impacts to the environment. The EA and Draft FONSI are available at the following locations:

• Lompoc Public Library;

• Santa Barbara Public Library (Main);

• Santa Maria Public Library; and

• University of California, Santa Barbara Library Government Publications Department.

DATES: A FONSI will be issued no earlier than October 16, 2003.

ADDRESSES: Requests for copies of the document or to provide comments on the EA should be addressed to: U.S. Army Space and Missile Defense Command, Attn: SMDC-EN-V (Mr. David Hasley), P.O. Box 1500, Huntsville, AL 35807-3801, or by phone at 1-800-823-8823.

FOR FURTHER INFORMATION CONTACT: Please call Mr. Rick Lehner, MDA Director of Communications at (703) 697-8997.

Dated: September 9, 2003.
L.M. Bynum,
Alternate OSD Federal Register Liaison Officer, Department of Defense.

[FR Doc. 03-23340 Filed 9-12-03; 8:45 am]

BILLING CODE 5001-08-M